DEPARTMENT OF DEFENSE

Department of the Army; Corps of Engineers

Notice of Intent To Hold a Public Meeting To Take Public Comments on the Draft Supplemental Environmental Impact Statement on Rock Mining in Wetlands in the Lake Belt Region of Miami-Dade County, FL

AGENCY: Department of the Army, U.S. Army Corps of Engineers, DoD.

ACTION: Notice of meeting.

SUMMARY: The U.S. Army Corps of Engineers (Corps) Jacksonville District issued a draft Supplemental Environmental Impact Statement (SEIS) on August 17, 2007 to evaluate potential impacts of further rock mining within wetlands in western Miami-Dade County, FL. In order to accept public comments on the Draft SEIS, the Corps has scheduled a public meeting. The Corps invites Federal agencies, American Indian Tribal Nations, state and local governments, and other interested private organizations and parties to attend the public meeting and to comment on the draft SEIS.

DATES: The Corps plans to hold a public meeting on September 18, 2007 at 6:30 p.m. EST.

ADDRESSES: The meeting will be held at the Miami Dade Fire Rescue Headquarters, 9300 NW 41st Street, Doral, FL 33178. (786) 331-5000.

FOR FURTHER INFORMATION CONTACT: Ms. Leah Oberlin, (561) 472-3506.

SUPPLEMENTARY INFORMATION: The Corps will provide additional notification of the meeting time and location through newspaper advertisements and other means. Following a short presentation on the draft SEIS, verbal and written comments on the draft SEIS will be accepted. A transcript of verbal comments will be generated to ensure accuracy. A spanish language translator will be available. To submit comments on the draft SEIS or to request copies of materials related to this effort as they become available to the public, contact: Ms. Leah Oberlin, U.S. Army Corps of Engineers, Regulatory Division, Palm Beach Gardens Regulatory Office, 4400 PGA Boulevard, Suite 500, Palm Beach Gardens, FL, 33410, by e-mail at Leah.A.Oberlin@saj02.usace.army.mil, or by telephone at (561) 472-3506. Comments or requests for information can also be submitted on the Lake Belt SEIS Web site at http://www.lakebeltseis.com. The Corps will consider all comments for the scope of the SEIS received by October 16, 2007.

Brenda S. Bowen,
Army Federal Register Liaison Officer.

[FR Doc. 07-4378 Filed 9-6-07; 8:45 am]

BILLING CODE 3710-AJ-M